ENVIRONMENTAL PROTECTION AGENCY

40 CFR Part 52

[EPA-R04-OAR-2017-0454; FRL-9969-28-Region 4]

Air Plan Approval: North Carolina; Transportation Conformity

AGENCY: Environmental Protection Agency (EPA).

ACTION: Withdrawal of direct final rule.

SUMMARY: Due to the receipt of an adverse comment, the Environmental Protection Agency (EPA) is withdrawing the August 16, 2017, direct final rule that approves a North Carolina state implementation plan (SIP) revision related to transportation conformity requirements. EPA will address the comment in a subsequent final action based upon the proposed rulemaking action, also published on August 16, 2017. EPA will not institute a second comment period on this action.

DATES: The direct final rule published at 82 FR 38838, on August 16, 2017, is withdrawn, effective October 13, 2017.

FOR FURTHER INFORMATION CONTACT: Kelly Sheckler, Air Regulatory Management Section, Air Planning and Implementation Branch, Air, Pesticides and Toxics Management Division, U.S. Environmental Protection Agency, Region 4, 61 Forsyth Street SW., Atlanta, Georgia 30303-8960. The telephone number is (404) 562-9222. Ms. Sheckler can also be reached via electronic mail at sheckler.kelly@epa.gov.

SUPPLEMENTARY INFORMATION: On August 16, 2017 (82 FR 38838), EPA published a direct final rule approving portions of a SIP revision submitted by the State of North Carolina through the North Carolina Department of Environment and Natural Resources (now the North Carolina Department of Environmental Quality) to clarify the applicability of the State's transportation conformity rules. EPA took a direct final action to approve changes to regulation 15A NCAC Subchapter 2D, section .2001, purpose, scope and applicability related to North Carolina's transportation conformity provisions.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective generally 30 days after the close of the public comment period, without further notice unless the Agency received adverse comment by the close of the public comment period. EPA explained that if the Agency received such comments, then EPA would publish a document withdrawing the final rule and informing the public that the rule would not take effect. It was also explained that all public comments received would then be addressed in a subsequent final rule based on the proposed rule, and that EPA would not institute a second comment period on this action.

EPA received one adverse comment from a single Commenter on the aforementioned rule. As a result of the comment received, EPA is withdrawing the direct final rule approving the aforementioned changes to the North Carolina SIP. EPA will address the comment in a separate final action based on the proposed action also published on August 16, 2017 (82 FR 38864). EPA will not open a second comment period for this action.

List of Subjects in 40 CFR Part 52

Environmental protection, Air pollution control, Incorporation by reference, Intergovernmental relations, Particulate matter, Reporting and recordkeeping requirements.

Dated: September 29, 2017.
Onis “Trey” Glenn, III,
Regional Administrator, Region 4.

PART 52—APPROVAL AND PROMULGATION OF IMPLEMENTATION PLANS

Accordingly, the amendment to 40 CFR 52.1770(c) published on August 16, 2017 (82 FR 38838), is withdrawn effective October 13, 2017.

[FR Doc. 2017-22094 Filed 10-12-17; 8:45 am]

BILLING CODE 6560-50-P